DEPARTMENT OF DEFENSE

Office of the Secretary

Defense Policy Board; Notice of Federal Advisory Committee Meeting

AGENCY: Under Secretary of Defense for Policy, Department of Defense (DoD).

ACTION: Notice of Federal Advisory Committee meeting.

SUMMARY: The DoD is publishing this notice to announce that the following Federal Advisory Committee meeting of the Defense Policy Board (DPB) will take place.

DATES: Closed to the public, Tuesday, December 13, 2022, from 8:30 a.m. to 5:20 p.m. and Wednesday, December 14, 2022 from 8:00 a.m. to 3:00 p.m.

ADDRESSES: The closed meeting will be held in the Rodman Room, The Pentagon, 2000 Defense Pentagon, Washington, DC 20301-2000.

FOR FURTHER INFORMATION CONTACT: The Designated Federal Officer (DFO), Ms. Stacee Bako, (703) 571-9234 (Voice), 703-697-8606 (Facsimile), osd.pentagon.rsrcmgmt.list.ousd-policy-defense-board-mbx@mail.mil (Email). Mailing address is 2000 Defense Pentagon, Washington, DC 20301-2000.

SUPPLEMENTARY INFORMATION: This meeting is being held under the provisions of the Federal Advisory Committee Act (FACA) (5 U.S.C., app.), the Government in the Sunshine Act (“the Sunshine Act”) (5 U.S.C. 552b), and title 41 Code of Federal Regulations (CFR), sections 102-3.140 and 102-3.150.

Due to circumstances beyond the control of the Designated Federal Officer, the Defense Policy Board was unable to provide public notification required by 41 CFR 102-3.150(a) concerning its December 13-14, 2022 meeting. Accordingly, the Advisory Committee Management Officer for the Department of Defense, pursuant to 41 CFR 102-3.150(b), waives the 15-calendar day notification requirement. Purpose of the Meeting: To obtain, review, and evaluate classified information related to the DPB's mission to advise on (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On December 13, 2022 and December 14, 2022, the DPB will receive classified briefings and hold classified discussions on DoD's current role, processes, capabilities, and organizational constructs for planning and conducting information operations, military information support operations, and psychological operations in an era of expanding strategic competition including the application of emerging technology and the continuing evolution of social media platforms. The Secretary of Defense and the Undersecretary of Defense for Policy will address the DPB. The DPB will receive classified briefings on the following: (1) DoD Information Operations Doctrine and Posture from Christopher P. Maier, Assistant Secretary of Defense for Special Operations and Low-Intensity Conflict; (2) intelligence briefings on the current information environment; and allies and partners and the information environment, both with a question and answer session; (3) the evolution of information operations and psychological operations from LTG Braga, Commander, U.S. Army Special Operations Command and BG Gil Ferguson, Deputy Commanding General for Operations; (4) Combined Joint Task Force-Operation Inherent Resolve (CJTF-OIR) and Iraq's Counterterrorism Service from MG John Brennan, Director of Operations, J-3, United States Special Operations Command and former Commander CJTF-OIR (to be confirmed); (5) the United States Cyber Command approach to force development and information effects from Lt. Gen Timothy D. Haugh, Deputy Commander, U.S. Cyber Command (to be confirmed); (6) information operations for perception management case studies led by RDML Ronald A. Foy, Deputy Director for Global Operations, Joint Staff; and (7) participate in an information operations scenario-based discussion led by the Under Secretary of Defense for Policy and RDML Ronald A. Foy. The DPB will also deliberate and discuss their findings and recommendations of the previous DPB meeting in September 2022 and then brief the Secretary of Defense on the DPB's findings and recommendations from that meeting.

Meeting Accessibility: In accordance with section 10(d) of the FACA and 41 CFR 102-3.155, the DoD has determined that this meeting shall be closed to the public. The Under Secretary of Defense (Policy), in consultation with the DoD FACA Attorney, has determined in writing that this meeting be closed to the public because the discussions fall under the purview of Section 552b(c)(1) of the Sunshine Act and are so inextricably intertwined with unclassified material that they cannot reasonably be segregated into separate discussions without disclosing classified material.

Written Statements: In accordance with section 10(a)(3) of the FACA and 41 CFR 102-3.105(j) and 102-3.140(c), the public or interested organizations may submit written statements to the membership of the DPB at any time regarding its mission or in response to the stated agenda of a planned meeting. Written statements should be submitted to the DPB's DFO, which is listed in this notice or can be obtained from the GSA's FACA Database— http://www.facadatabase.gov/. Written statements that do not pertain to a scheduled meeting of the DPB may be submitted at any time. However, if individual comments pertain to a specific topic being discussed at a planned meeting, then these statements must be submitted no later than two business days prior to the meeting in question. The DFO will review all submitted written statements and provide copies to all members.

Dated: December 9, 2022.
Aaron T. Siegel,
Alternate OSD Federal Register Liaison Officer, Department of Defense.

[FR Doc. 2022-27148 Filed 12-13-22; 8:45 am]

BILLING CODE 5001-06-P